DEPARTMENT OF AGRICULTURE

Forest Service

Notice of Meeting; Federal Lands Recreation Enhancement Act (Title VIII, Pub. L. 108-447)

AGENCY: Rocky Mountain Region, USDA Forest Service.

ACTION: Notice of Meeting.

SUMMARY: The Colorado Recreation Resource Advisory Committee will tentatively meet in Golden, CO. The purpose of the meeting is to continue to provide the new committee members with the information they need to be effective committee members and review several fee proposals. These fee proposals will tentatively include several new cabin rentals and fee changes for: the Green Mountain Reservoir/Cataract Lake fee area and the Arapaho National Recreation Area.

DATES: The meeting will be held June 24 from 9 a.m.-4:30 p.m. This meeting will only be held if a quorum is present.

ADDRESSES: The meeting will be at the American Mountaineering Center at 710 10th Street in Golden, Colorado, in conference rooms C&D on the 1st floor. Parking is available on the north and east sides of the building. Send written comments to Steve Sherwood, Designated Federal Official, 740 Simms Street, Golden, CO 80401 or ssherwood@fs.fed.us.

FOR FURTHER INFORMATION CONTACT: Paul E. Cruz, Colorado Recreation Resource Advisory Committee Acting Coordinator, at 970-295-6614 or pecruz@fs.fed.us.

SUPPLEMENTARY INFORMATION: The meeting is open to the public. Committee discussion is limited to Forest Service, Bureau of Land Management staff and Committee members. Persons who wish to bring recreation fee matters to the attention of the Committee may file written statements with the Committee staff. Written comments received at least a week before the meeting will be available for committee review. Written comments received less than a week before the meeting may not be available for committee referral. There will be time on the agenda for verbal comments (5 minutes per person) and the Chairperson may ask for comments from the public at any time during the meeting. All persons wishing to address the committee must sign in at the door.

Check for the status of the meeting, the final agenda and a final list of the fee proposals to be reviewed at: http://www.fs.fed.us/r2/recreation.

The Recreation RAC is authorized by the Federal Land Recreation Enhancement Act, which was signed into law by President Bush in December 2004.

Dated: May 19, 2008.
Steve Sherwood,
DFO, Colorado Recreation Resource Advisory Committee.

[FR Doc. E8-11621 Filed 5-27-08; 8:45 am]

BILLING CODE 3410-11-M